NUCLEAR REGULATORY COMMISSION

[Docket No. 50-131]

Notice of Renewal of Facility Operating License No. R-57, Department of Veterans Affairs, Nebraska-Western Iowa Health Care System

The U.S. Nuclear Regulatory Commission (the Commission) has issued Amendment No. 11 to Facility Operating License No. R-57 for the Department of Veterans Affairs, Nebraska-Western Iowa Health Care System (the licensee), which renews the license for operation of the Alan J. Blotcky Reactor Facility located at the Department of Veterans Affairs, Nebraska-Western Iowa Health Care System, Omaha Division (formerly known as the VA Medical Center Omaha) in Omaha, Nebraska.

The facility is a non-power reactor that has been operating at a power level not in excess of 20 kilowatts (thermal). The renewed Facility Operating License No. R-57 will expire 20 years from its date of issuance.

The amended license complies with the standards and requirements of the Atomic Energy Act of 1954, as amended (the Act), and the Commission's rules and regulations. The Commission has made appropriate findings as required by the Act and the Commission's regulations in 10 CFR chapter 1. Those findings are set forth in the license amendment. Opportunity for hearing was afforded in the notice of the proposed issuance of this renewal in the Federal Register on January 26, 1995, at 60 CFR part 5228. No request for a hearing or petition for leave to intervene was filed following notice of the proposed action.

Continues operation of the reactor will not require alteration of buildings or structures, will not lead to significant changes in effluents released from the facility to the environment, will not increase the probability or consequences of accidents, and will not involve any unresolved issues concerning alternative uses of available resources. Based on the foregoing and on the Environmental Assessment, the Commission concludes that renewal of the license will not result in any significant environmental impacts.

The Commission has prepared a “Safety Evaluation Report Related to the Renewal of the Operating License for the Research Reactor at the Department of Veterans Affairs, Nebraska-Western Iowa Health Care System, Omaha Division” for the renewal of Facility Operating License No. R-57 and has, based on that evaluation, concluded that the facility can continue to be operated by the licensee without endangering the health and safety of the public.

The Commission also prepared an Environmental Assessment which was published in the Federal Register on November 27, 2001, (66 FR 59267) for the renewal of Facility Operating License No. R-57 and has concluded that this action will not have a significant effect on the quality of the human environment.

For further details with respect to this action, see: (1) The application for amendment dated May 10, 1993, as supplemented on March 1, 1995, December 17, 1997, March 12, April 5, July 29, November 24 and December 2, 1999, January 4, September 25, October 2 and October 24, 2000, and August 8 and October 16, 2001, (2) Amendment No. 11 to Facility Operating License No. R-57; (3) the related Safety Evaluation Report and (4) the Environmental Assessment dated November 20, 2001. Documents may be examined, and/or copied for a fee, at the NRC's Public Document Room, located at One White Flint North, 11555 Rockville Pike, (first floor), Rockville, Maryland. The NRC maintains an Agencywide Documents Access and Management System (ADAMS), which provides text and image files of NRS's public documents. Documents related to this license renewal dated on or after November 24, 1999, may be accessed through the NRC's Public Electronic Reading Room on the internet at http://www.nrc.gov. If you do not have access to ADAMS or if there are problems in accessing the documents located in ADAMS, contact the NRC Public Document Room (PDR) Reference staff at 1-800-397-4209, 301-415-4737 or by e-mail to pdr@nrc.gov.

Dated at Rockville, Maryland, this 5th day of August 2002.
For the U.S. Nuclear Regulatory Commission.
Patrick M. Madden,
Section Chief, Research and Test Reactors Section, Operating Reactor Improvements Program, Division of Regulatory Improvement Programs, Office of Nuclear Reactor Regulation.

[FR Doc. 02-21415 Filed 8-21-02; 8:45 am]

BILLING CODE 7590-01-P